FEDERAL COMMUNICATIONS COMMISSION

47 CFR Part 20

[CC Docket No. 94-102 and WT Docket No. 00-80; DA 00-1098]

Wireless E911; Call Back Number Issues Associated With Non-Service Initialized Wireless 911 Calls

AGENCY: Federal Communications Commission.

ACTION: Proposed rule.

SUMMARY: The Commission, in this document, seeks comment on a request for further consideration of call back number issues associated with non-service initialized wireless 911 calls. The action is needed to establish a strong, inclusive record on these issues that the Commission may use in making well-informed decisions in this critical enhanced 911 proceeding.

DATES: Submit comments on or before June 19, 2000; submit reply comments on or before July 5, 2000.

ADDRESSES: Send comments and reply comments to the Office of the Secretary, Federal Communications Commission, Washington, DC 20554.

FOR FURTHER INFORMATION CONTACT: Barbara Reideler or Jay Whalely, 202-418-1310.

SUPPLEMENTARY INFORMATION: 1. On April 28, 2000, the Texas 911 Agencies,¹ the National Emergency Number Association (NENA), the Association of Public-Safety Communications Officials-International, Inc. (APCO) and the National Association of State Nine-One-One Administrators (NASNA) (collectively, the Public Safety Entities) filed a letter with the Federal Communications Commission (Commission) seeking further consideration of call back number issues associated with non-service initialized 911 calls.

¹ The Texas 911 Agencies are comprised of the Texas Commission of State Emergency Communications (a state agency) and the following local Texas Emergency Communications Districts: Tarrant County 911 District, Bexar Metro 911 Network, Brazos County Emergency Communication District, DENCO Area 911 District, 911 Network of East Texas, Galveston County Emergency Communication District, Greater Harris County 911 Emergency Network, Henderson County 911 Communication District, Howard County 911 Communication District, Kerr Emergency 911 Network, Lubbock County Emergency Communication District, McLennan County Emergency Assistance District, Midland Emergency Communication District, Montgomery County Emergency Communication District, Potter-Randall County Emergency Communication District, and Texas Eastern 911 Network.

2. Phase I Enhanced 911 rules require that a dialable number accompany each 911 call to enable Public Safety Answering Points (“PSAPs”) dispatchers to either call back if the call is disconnected or obtain additional information. (47 CFR 20.18((d)). In its E911 First Report and Order (61 FR 40348, August 2, 1996) the Commission recognized that it would not always be possible for carriers to provide reliable call back numbers for all wireless 911 calls. Thus, the Commission exempted covered carriers from providing reliable call back numbers to PSAPs in cases where the wireless telephone is not associated with a dialable telephone number, such as those designed or offered on an originate-only rate plan or those never initialized with an underlying carrier service.

3. The Public Safety Entities note that, increasingly, refurbished wireless telephones are being distributed by many organizations. While not challenging the benefits of these donations, the Public Safety Entities note that these distributed telephones and other 911-only non-serviced initialized telephones, may not provide valid call back emergency information even when used in areas where 911 Phase I services have been implemented. The Public Safety Entities assert that increased sales and use of these wireless telephones create a public safety concern that should be further considered. Accordingly, the Public Safety Entities request that the Commission seek additional comment concerning call back capabilities for non-serviced initialized handsets and address whether further Commission action, such as technical solutions or educational programs, is needed or appropriate.

Procedural Matters

4. Pursuant to § 1.45 of the Commission's Rules, 47 CFR 1.45, interested parties may file comments on the proposed implementation deadline no later than June 19, 2000. Replies shall be filed no later than July 19, 2000. All comments shall reference the docket number of this proceeding. Comments may be filed using the Commission's Electronic Comment Filing System (ECFS) or by filing paper copies. Comments filed through the ECFS can be sent as an electronic file via the Internet to http://www.fcc.gov/e-file/ecfs.html. In completing the transmittal screen, commenters should include their full name, Postal Service mailing address, and the docket number of this proceeding. Parties filing electronically should also e-mail a copy of their comments to jwhaley@fcc.gov. Parties who choose to file by paper must file an original and four copies of each filing with the Commission's Secretary (Magalie Roman Salas, Office of the Secretary, Federal Communications Commission, 445 12th Street SW, Washington, DC 20554) and a diskette copy to the Commission's copy contractor (International Transcription Service, Inc. (ITS), CY-B400, (202) 857-3800).

5. Pursuant to § 1.1206 of the Commission's Rules, 47 CFR 1.1206, this proceeding is a permit-but-disclose proceeding in which ex parte communications are permitted subject to disclosure.

Federal Communications Commission.
Magalie Roman Salas,
Secretary.

[FR Doc. 00-14032 Filed 6-2-00; 8:45 am]

BILLING CODE 6712-01-P